SMALL BUSINESS ADMINISTRATION

Region 3—Washington Metropolitan Area District Office Advisory Council; Public Meeting

The U.S. Small Business Administration, Washington Metropolitan Area District Office, will host a public a meeting on Tuesday, May 3, 2005, starting at 9 a.m. until 12 noon, at the Washington Metropolitan Area District Office, located at 1110 Vermont, Avenue, NW., 9th Floor, Washington, DC 20005. Seating is limited and is available on a first come, first served basis. The focus of the meeting includes a review/update of the status of the district's FY 2005 goals, update on new initiatives and other matters that may be presented by members and staff of the U.S. Small Business Administration, Washington Metropolitan Area District Office or others present.

Anyone wishing to make an oral presentation to the Board must contact Joseph P. Loddo, District Director, Washington Metropolitan Area District Advisory Council, in writing or by fax no later than April 19, 2005, in order to be put on the agenda. Joseph P. Loddo, District Director, U.S. Small Business Administration, Washington Metropolitan Area District Office, 1110 Vermont Avenue, NW., 9th Floor, Washington, DC 20005, telephone (202) 606-4000, ext. 261, or fax (202) 481-1656.

Matthew K. Becker,
Committee Management Specialist.

[FR Doc. 05-7229 Filed 4-8-05; 8:45 am]

BILLING CODE 8025-01-P